DEPARTMENT OF ENERGY

Federal Energy Regulatory Commission

Combined Notice of Filings #1

Take notice that the Commission received the following electric rate filings:

Docket Numbers: ER12-1103-002.

Applicants: Tucson Electric Power Company.

Description: TEP Compliance Filing—2nd Revised Participation Agmt and 230kV Attachment Agmt to be effective 4/17/2012.

Filed Date: 5/17/12.

Accession Number: 20120517-5047.

Comments Due: 5 p.m. ET 6/7/12.

Docket Numbers: ER12-1144-001.

Applicants: WSPP Inc.

Description: Compliance Filing Regarding Service Schedule R to WSPP Agreement to be effective 4/23/2012.

Filed Date: 5/17/12.

Accession Number: 20120517-5087.

Comments Due: 5 p.m. ET 6/7/12.

Docket Numbers: ER12-1807-000.

Applicants: HL Power Company, LP.

Description: Filing of Notice of Cancellation of Rate Schedule No. 2 to be effective 5/18/2012.

Filed Date: 5/17/12.

Accession Number: 20120517-5055.

Comments Due: 5 p.m. ET 6/7/12.

Docket Numbers: ER12-1808-000.

Applicants: Invenergy Wind Development Michigan LLC.

Description: Filing of Notice of Termination of Facilities Use Agreement to be effective 7/17/2012.

Filed Date: 5/17/12.

Accession Number: 20120517-5075.

Comments Due: 5 p.m. ET 6/7/12.

Docket Numbers: ER12-1809-000.

Applicants: ISO New England Inc.

Description: Posturing Rule Changes to be effective 5/18/2012.

Filed Date: 5/17/12.

Accession Number: 20120517-5079.

Comments Due: 5 p.m. ET 6/4/12.

Docket Numbers: ER12-1810-000.

Applicants: PJM Interconnection, LLC.

Description: Amendments to Sch 12 Appx of the PJM Tariff re 4/17/2012 Board Approval to be effective 8/15/2012.

Filed Date: 5/17/12.

Accession Number: 20120517-5082.

Comments Due: 5 p.m. ET 6/7/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 17, 2012.
Nathaniel J. Davis, Sr.,
Deputy Secretary.

[FR Doc. 2012-12890 Filed 5-25-12; 8:45 am]

BILLING CODE 6717-01-P